DEPARTMENT OF THE INTERIOR

Office of Natural Resources Revenue

[Docket No. ONRR-2011-0019; DS63642000 DR2000000.CH7000 167D0102R2]

Major Portion Prices and Due Date for Additional Royalty Payments on Indian Gas Production in Designated Areas Not Associated With an Index Zone

AGENCY: Office of Natural Resources Revenue (ONRR).

ACTION: Withdrawal.

SUMMARY: On April 28, 2016, ONRR published (at 81 FR 25419) a notice of the due date for industry to pay additional royalties based on the major portion prices, titled “Major Portion Prices and Due Date for Additional Royalty Payments on Indian Gas Production in Designated Areas Not Associated with an Index Zone.” Unfortunately, due to an incorrect date in said notice, it is necessary to withdraw the notice and re-publish a corrected version. This notice withdraws the April 28, 2016, notice in question.

FOR FURTHER INFORMATION CONTACT: For questions on technical issues, contact Mr. Luis Aguilar, Regulatory Specialist, ONRR, telephone (303) 231-3418, or email Luis.Aguilar@onrr.gov.

Dated: May 25, 2016.
Gregory J. Gould,
Director, Office of Natural Resources Revenue.

[FR Doc. 2016-13207 Filed 6-3-16; 8:45 am]

BILLING CODE 4335-30-P